DEPARTMENT OF AGRICULTURE

Agricultural Research Service

Office of the Under Secretary, Research, Education, and Economics; Notice of the Advisory Committee on Biotechnology and 21st Century Agriculture Meeting

AGENCY: Agricultural Research Service, Agriculture.

ACTION: Notice of meeting.

SUMMARY: In accordance with the Federal Advisory Committee Act, 5 U.S.C. App. II, the United States Department of Agriculture announces a meeting of the Advisory Committee on Biotechnology and 21st Century Agriculture (AC21).

DATES: August 9-10, 2005, 8 a.m. to 4 p.m. both days. Written requests to make oral presentations at the meeting must be received by the contact person identified herein at least three business days before the meeting.

ADDRESSES: Ballroom D, Loews L'Enfant Plaza Hotel, 480 L'Enfant Plaza, SW., Washington, DC 20024. Requests to make oral presentations at the meeting may be sent to the contact person at USDA, Office of the Deputy Secretary, 202 B Jamie L. Whitten Federal Building, 12th Street and Independence Avenue, SW., Washington, DC 20250.

FOR FURTHER INFORMATION CONTACT: Michael Schechtman, Designated Federal Official, Office of the Deputy Secretary, USDA, Telephone (202) 720-3817; Fax (202) 690-4265; E-mail mschechtman@ars.usda.gov.

SUPPLEMENTARY INFORMATION: The eighth meeting of the AC21 has been scheduled for February 7-8, 2004. The AC21 consists of 18 members representing the biotechnology industry, the seed industry, international plant genetics research, farmers, food manufacturers, commodity processors and shippers, environmental and consumer groups, and academic researchers. In addition, representatives from the Departments of Commerce, Health and Human Services, and State, and the Environmental Protection Agency, the Council on Environmental Quality, and the Office of the United States Trade Representative serve as “ex officio” members.

At this meeting, new members will be introduced and the Committee will be provided updates on reports already completed. The Committee will then consider how best to complete, in a timely fashion, ongoing examining the impacts of agricultural biotechnology on American agriculture and USDA over the next 5 to 10 years. In particular, the AC21 will review the status of current sections of text and discuss how best to modify and finalize them to provide a coherent report to USDA. A work plan for completion of ongoing work will be developed. In addition, there will be preliminary discussions of potential future work topics of the Committee.

Background information regarding the work of the AC21 will be available on the USDA Web site at http://www.usda.gov/agencies/biotech/ac21.html. On August 9, 2005, if time permits, reasonable provision will be made for oral presentations of no more than five minutes each in duration.

The meeting will be open to the public, but space is limited. If you would like to attend the meetings, you must register by contacting Ms. Dianne Harmon at (202) 720-4074, by fax at (202) 720-3191 or by e-mail at dharmon@ars.usda.gov at least 5 days prior to the meeting. Please provide your name, title, business affiliation, address, and telephone and fax numbers when you register. If you require a sign language interpreter or other special accommodation due to disability, please indicate those needs at the time of registration.

Dated: June 30, 2005.
Bernice Slutsky,
Special Assistant for Biotechnology.

[FR Doc. 05-13515 Filed 7-8-05; 8:45 am]

BILLING CODE 3410-03-P